DEPARTMENT OF COMMERCE

Census Bureau

[Docket Number 220526-0123]

Soliciting Input or Suggestions on 2030 Census Preliminary Research

AGENCY: Census Bureau, Department of Commerce.

ACTION: Notice and request for comment.

SUMMARY: Early planning for the 2030 Census program began in Fiscal Year 2019 with building the program foundation and preparing for the official program kick-off and start of the Design Selection Phase in October 2021. The primary goal of the Design Selection Phase is to conduct the research, testing, and operational planning and design work to inform the selection of the 2030 Census operational design. We are issuing this notice to engage with our stakeholders on the development and implementation strategies that improve the way people participate in the 2030 Census. This notice also includes specific topics of interest to help guide input from stakeholders and other members of the public.

DATES: Comments on this notice must be received by November 15, 2022.

ADDRESSES: Interested persons are invited to submit written comments by email to DCMD.2030.Research@census.gov. You may also submit comments, identified by Docket Number USBC-2022-0004, to the Federale-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information should be directed to Jennifer Reichert, Chief, Decennial Census Management Division, 301-763-6712, and DCMD.2030.Research@census.gov.

SUPPLEMENTARY INFORMATION: In 2020, the Census Bureau conducted the most automated, modern, and dynamic decennial census in our nation's history. This included design changes that made it as easy and efficient as possible for people to respond to the census by offering response options through the internet and by telephone, in addition to the traditional paper response, thereby allowing people to respond to the census from any location at any time. This helped to get more people to respond on their own, which, in turn, reduced the need to conduct expensive in-person follow-up for the enumeration.

The 2020 Census Program used advertisements to motivate people to respond, and used different approaches to reach demographic groups and geographic areas. The Census Bureau's partnership program worked closely with national and local community, recreation, and faith-based organizations to host both in-person and virtual events within their communities. In addition, census workers left materials at households to encourage self-response.

Our Post-Enumeration Survey and Demographic Analysis estimates indicate that we may have had undercounts of certain populations, in particular the Black or African American population, the American Indian and Alaska Native population living on the reservations, the Hispanic or Latino population, and young children aged 0-4. The Census Bureau seeks input on potential new methods and techniques to reach these populations.

Full details of the 2020 Census Program can be found in the 2020 Census Operational Plan. Two vintages of this operational plan are available online at: https://www.census.gov/programs-surveys/decennial-census/decade/2020/planning-management/plan/op-plans.html.

The version 4.0 of the 2020 Census Operational Plan, published in early 2019, describes the mature plan for the census prior to the production phase of the 2020 Census. Version 5.0 of the 2020 Census Operational Plan provides some operational updates that summarize the as-performed state of the census operations in Chapter 5, as well as some other noteworthy schedule and pre-2020 test result updates. Version 4.0 of the 2020 Census Operational Plan document is considered the more complete document of the plans for performing the 2020 Census.

The Census Bureau plans to build on the experiences of the 2020 Census and identify further, potential operational updates to develop the 2030 Census design. Early planning for the 2030 Census is now underway, and includes conducting research, testing, and operational planning and design work to inform the selection of the 2030 Census operational design. This work will factor in past census experiences, evolving technology, and stakeholder feedback.

The 2030 Census program could encounter multiple factors that the census design will have to address, including:

• Constrained fiscal environment: Budget uncertainties place significant pressure on funding available for the research, testing, design, and development work.

• Rapidly changing use of technology: The rapid pace of change in the use of technology makes it challenging to plan for and adequately test the use of technologies before they become obsolete.

• Distrust in government: Concerns about the security and privacy of information given to the government impact response rates and pose difficulties in data collection.

• Declining response rates: Response rates for surveys and censuses have declined as people are overloaded with requests for information and concerned about privacy.

• Increasingly diverse population: The demographic and cultural makeup of the U.S. is increasing in complexity, requiring tailored outreach efforts to encourage response.

• Informal, complex living arrangements: Households are becoming more diverse and dynamic, making it a challenge to associate an identified person with a single location.

• A mobile population: The U.S. continues to be a highly mobile nation, which makes it more challenging to locate individuals and solicit their participation.

The Census Bureau is seeking input from the public that could help mitigate these challenges and encourage people to respond to the census. The census count benefits from broad participation. We specifically are interested in strategies that may improve or enhance the way people respond to the 2030 Census on their own. We invite the public to comment on the following topics:

A. Reaching and motivating everyone. As we lay the foundation for the 2030 Census, we are interested in recommendations that help us reach everyone—especially the Black or African American population, the American Indian or Alaska Native population living on a reservation, the Hispanic or Latino population, people who reported being of Some Other Race, and young children. The 2020 Post-Enumeration Survey and Demographic Analysis estimates suggest undercounts within these groups, and the Census Bureau remains committed to addressing the factors that may contribute to such undercounts. We are interested in insights that would help us understand how to reach these populations and motivate people to respond in the 2030 Census.

B. Technology. As technological advancements continue to improve, we are interested in technological advancements and developments that could make responding to the census more user-friendly, could further enhance our efforts to increase self-response, and could facilitate our work to collect data in person when necessary.

C. New data sources. The 2020 Census used administrative records (such as data from federal and state governments), third-party sources (data from commercial sources), internal data, and publicly available information to enhance operational efficiency and data quality. We are interested in learning about additional data sources, or methods of using them, that could continue increasing operational efficiency and effectiveness, and improving data quality.

D. How we contact respondents. Contact strategies will focus on encouraging respondents to complete the census on their own. We are interested in recommendations for tailoring contact strategies to maximize the number of households responding on their own, including tools we use to invite people to respond to the census, how often we reach out to each household, and the messages we use.

E. Respondent support services. We are interested in recommendations for supporting people as they respond by offering various types of support and in non-English languages. This may include providing support to people as they respond online or through telephone assistance.

The Census Bureau encourages commenters to structure their input or recommendations using the text in headings A to E as identifiers for their remarks. This structure will assist in reviewing the input and recommendations received in response to these specific topics. For example, a commenter submitting input or recommendations responsive to item A above, would reference “Reaching and motivating everyone” in the heading of their remarks.

Please note the following general points regarding the Census Bureau's use of comments and input:

(1) The Census Bureau will review and screen the submissions and may not incorporate all input/recommendations.

(2) While there is no compensation for submission, the Census Bureau encourages participation to help ensure broad and diverse input to inform the 2030 Census operational design.

Robert L. Santos, Director, Census Bureau, approved the publication of this Notice in the Federal Register.

Dated: August 10, 2022.
Shannon Wink,
Program Analyst, Policy Coordination Office, U.S. Census Bureau.

[FR Doc. 2022-17647 Filed 8-16-22; 8:45 am]

BILLING CODE 3510-07-P